DEPARTMENT OF COMMERCE

International Trade Administration

(A-469-814)

Chlorinated Isocyanurates from Spain: Extension of Time Limit for Final Results of Antidumping Duty Administrative Review

AGENCY: Import Administration, International Trade Administration, Department of Commerce.

EFFECTIVE DATE: December 16, 2008.

FOR FURTHER INFORMATION CONTACT: Scott Lindsay, AD/CVD Operations, Office 6, Import Administration, International Trade Administration, U.S. Department of Commerce, 14th Street and Constitution Avenue, NW, Washington DC 20230; telephone: (202) 482-0780.

SUPPLEMENTARY INFORMATION:

Background

On July 10, 2008, the Department of Commerce (“the Department”) published the preliminary results of the antidumping duty administrative review of chlorinated isocyanurates from Spain, covering the period June 1, 2006, through May 31, 2007. See Chlorinated Isocyanurates from Spain: Preliminary Results of Antidumping Duty Administrative Review, 73 FR 39650 (July 10, 2008). On November 10, 2008, the Department extended the due date for this administrative review by 33 days, until December 10, 2008. See Chlorinated Isocyanurates from Spain: Extension of Time Limit for Final Results of Antidumping Duty Administrative Review, 73 FR 66594 (November 10, 2008).

Extension of Time Limits for Final Results

Pursuant to section 751(a)(3)(A) of the Tariff Act of 1930, as amended (“Act”), and 19 CFR 351.213(h)(1), the Department shall issue the final results of an administrative review within 120 days after the date on which the notice of the preliminary results was published in the Federal Register. See section 751(a)(3)(A) of the Act and19 CFR 351.213(h)(1). However, if the Department determines that it is not practicable to complete the review within this time period, section 751(a)(3)(A) of the Act and 19 CFR 351.213(h)(2) allow the Department to extend the 120-day period to 180 days.

The Department finds that it is not practicable to complete the review within the current deadline due to further analysis that is required in this case. In particular, the Department needs additional time to examine the parties' arguments regarding Aragonesas Industrias y Energia S.A.'s reported levels of trade. Therefore, in accordance with section 751(a)(3)(A) of the Act and 19 CFR 351.213(h)(2), the Department is extending the deadline for the final results of review, by an additional eight days, to 161 days from the date on which the notice of the preliminary results was published. The final results will now be due no later than December 18, 2008.

This notice is issued and published in accordance with sections 751(a)(3)(A) and 777(i) of the Act.

Dated: December 10, 2008.
Stephen J. Claeys,
Deputy Assistant Secretary for Antidumping and Countervailing Duty Operations.

[FR Doc. E8-29774 Filed 12-15-08; 8:45 am]

BILLING CODE 3510-DS-S